DEPARTMENT OF COMMERCE

National Oceanic and Atmospheric Administration

[RTID 0648-XC945]

Pacific Fishery Management Council; Public Meeting

AGENCY: National Marine Fisheries Service (NMFS), National Oceanic and Atmospheric Administration (NOAA), Commerce.

ACTION: Notice of a public online meeting.

SUMMARY: The Economics Subcommittee of the Pacific Fishery Management Council's (Pacific Council) Scientific and Statistical Committee (SSC) will convene an online meeting to review a comparative cost study for the West Coast Groundfish Trawl Catch Share Program. The SSC Economics Subcommittee meeting is open to the public.

DATES: The SSC Economics Subcommittee meeting will be held Thursday, May 11, 2023, from 9 a.m. until 12 p.m. (Pacific Daylight Time) or until business for the day has been completed.

ADDRESSES: The SSC Economics Subcommittee meeting will be conducted as an online meeting. Specific meeting information, including the agenda and directions on how to join the meeting and system requirements, will be provided in the workshop announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220.

FOR FURTHER INFORMATION CONTACT: Marlene A. Bellman, Staff Officer, Pacific Council; telephone: (503) 820-2414, email: marlene.bellman@noaa.gov.

SUPPLEMENTARY INFORMATION: The purpose of the SSC Economics Subcommittee meeting is to review a comparative cost study for the West Coast Groundfish Trawl Catch Share Program. In 2022, NMFS provided the Pacific Council with funds for a contract to look more closely at catch share fishery costs that are borne by industry and NMFS. Pacific Council staff engaged Mr. Darrell Brannan to conduct the work. The cost project covers three broad objectives: (a) documentation of industry concerns and identifying costs related to specific program elements, (b) comparison of those costs to similar catch share programs, and (c) organization and presentation of the information to inform future deliberations.

No management actions will be decided by the meeting participants. The participants' role will be the development of recommendations and reports for consideration by the SSC and the Pacific Council. The Pacific Council and SSC are scheduled to consider the comparative cost study for the West Coast Groundfish Trawl Catch Share Program at their September 2023 meeting in Spokane, Washington.

Although nonemergency issues not contained in the meeting agenda may be discussed, those issues may not be the subject of formal action during this meeting. Action will be restricted to those issues specifically listed in this notice and any issues arising after publication of this notice that require emergency action under Section 305(c) of the Magnuson-Stevens Fishery Conservation and Management Act, provided the public has been notified of the intent of the workshop participants to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: April 20, 2023.
Rey Israel Marquez,
Acting Deputy Director, Office of Sustainable Fisheries, National Marine Fisheries Service.

[FR Doc. 2023-08678 Filed 4-24-23; 8:45 am]

BILLING CODE 3510-22-P